TENNESSEE VALLEY AUTHORITY

Meeting of the Regional Resource Stewardship Council and the Regional Energy Resource Council

AGENCY: Tennessee Valley Authority (TVA).

ACTION: Notice of Federal advisory committee meeting.

SUMMARY: The TVA Regional Resource Stewardship Council (RRSC) and Regional Energy Resource Council (RERC) will hold a combined meeting of both councils on November 3, 2022, to seek advice on environmental justice issues in the Tennessee Valley and discuss TVA's sustainability and biodiversity programs.

DATES: The meeting will be held in Nashville, Tennessee, at Sonesta Nashville Airport hotel on Thursday, November 3, 2022, from 8:30 a.m. to 5:00 p.m. C.T. RRSC and RERC council members are invited to attend the meeting in person. The public is invited to view the meeting virtually or to attend in-person. Since TVA will not have a public comment session during the meeting, we invite written comments to be submitted by October 31, 2022, by email to Bekim Haliti at bhaliti@tva.gov or mail to Regional Energy Resource Council, Tennessee Valley Authority, 400 West Summit Hill Drive, WT 9D, Knoxville Tennessee 37902. Health and safety protocols may be required for those who attend in-person as TVA is following CDC guidance on masking and social distancing. A link and instructions to view the meeting will be posted on TVA's RRSC website at www.tva.gov/rrsc and TVA's RERC website at www.tva.gov/rerc at least one week prior to the scheduled meeting.

ADDRESSES: The public is invited to view the meeting virtually or attend in person. The in-person meeting will be held in the Sonesta Nashville Airport hotel at 600 Marriott Dr., Nashville, TN 37214. Due to space constraints, anyone wishing to attend in person must preregister by 5:00 p.m. E.T. Monday, October 31, 2022, by emailing bhaliti@tva.gov. Anyone needing special accommodations should let the contact below know at least one week in advance.

FOR FURTHER INFORMATION CONTACT: Bekim Haliti, bhaliti@tva.gov, 931-349-1894.

SUPPLEMENTARY INFORMATION: The RERC was established to advise TVA on its energy resource activities and the priorities among competing objectives and values. The RRSC was established to advise TVA on its natural resource and stewardship activities, and the priorities among competing objectives and values. The RRSC and RERC are discretionary advisory committees established under the authority of the Tennessee Valley Authority (TVA) in accordance with the provisions of the Federal Advisory Committee Act (FACA), as amended, 5 U.S.C., App. 2.

The meeting agenda includes the following:

November 3

1. Welcome and Introductions

2. RRSC/RERC and TVA Meeting Update

3. TVA's Sustainability Work, Biodiversity Policy, and Environmental Justice Program

4. Review and Discuss Advice Questions

5. Finalize Advice Statements

Dated: October 4, 2022.
Melanie Farrell,
Vice President, External Stakeholders and Regulatory Oversight, Tennessee Valley Authority.

[FR Doc. 2022-22170 Filed 10-12-22; 8:45 am]

BILLING CODE 8120-08-P